DEPARTMENT OF THE TREASURY

Submission for OMB Review; Comment Request

September 18, 2008

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

Dates: Written comments should be received on or before October 24, 2008 to be assured of consideration.

Internal Revenue Service (IRS)

OMB Number: 1545-1488.

Type of Review: Extension.

Title: REG-209837-96 (TD 8719 (Final)) Requirements Respecting the Adoption or Change of Accounting Method, Extensions of Time to Make Elections.

Description: The regulations provide the standards the Commissioner will use to determine whether to grant an extension of time to make certain elections.

Respondents: Businesses or other for-profit institutions.

Estimated Total Burden Hours: 5,000 hours.

OMB Number: 1545-0877.

Type of Review: Revision.

Title: Acquisition or Abandonment of Secured Property.

Form: 1099-A.

Description: Form 1099-A is used by lenders to report foreclosures and abandonments of property that is security for a loan.

Respondents: Businesses and other for-profit institutions.

Estimated Total Burden Hours: 61,817 hours.

OMB Number: 1545-1677.

Type of Review: Extension.

Title: REG-136311-01 (Final) Exclusions From Gross Income of Foreign Corporations (TD 9087).

Description: This document contains rules implementing the portions of section 883(a) and (c) of the Internal Revenue Code that relate to income derived by foreign corporations from the international operation of a ship or ships or aircraft. The rules provide, in general, that a foreign corporation organized in a qualified foreign country and engaged in the international operation of ships or aircraft shall exclude qualified income from gross income for purposes of United States Federal income taxation, provided that the corporation can satisfy certain ownership and related documentation requirements.

Respondents: Businesses or other for-profit institutions.

Estimated Total Burden Hours: 23,900 hours.

OMB Number: 1545-1393.

Type of Review: Extension.

Title: EE-14-81 (NPRM) Deductions and Reductions in Earnings and Profits (or Accumulated Profits) With Respect to Certain Foreign Deferred Compensation Plans Maintained by Certain Foreign Corporations.

Description: The regulation provides guidance regarding the limitations on deductions and adjustments to earnings and profits (or accumulated profits) for certain foreign deferred compensation plans. Respondents will be multinational corporations.

Respondents: Businesses and other for-profit institutions.

Estimated Total Burden Hours: 634,450 hours.

OMB Number: 1545-1654.

Type of Review: Extension.

Title: REG-106527-98 (Final) Capital Gains, Partnership and Subchapter S, and Trust Provisions.

Description: Section 1(h) requires that transferors recognize collectibles gain when an interest in an S corporation, trust, or a partnership holding property with collectibles gain is sold or exchanged and that partners take section 1250 capital gain in the partnership property into account when an interest in the partnership is sold or exchanged. These regulations provide guidance.

Respondents: Businesses and other for-profit institutions.

Estimated Total Burden Hours: 1 hour.

OMB Number: 1545-1927.

Type of Review: Extension.

Title: IRS e-file Electronic Funds Withdrawal Authorization for Form 7004.

Form: 8878-A.

Description: Form 8878-A is used by a corporate officer or agent and an electronic return originator (ERO) to use a personal identification number (PIN) to authorize an electronic funds withdrawal for a tax payment made with a request to extend the filing due date for a corporate income tax return.

Respondents: Businesses and other for-profit institutions.

Estimated Total Burden Hours: 505,400 hours.

OMB Number: 1545-1398.

Type of Review: Extension.

Title: Race and National Origin Identification.

Form: 9620.

Description: Form 9620 is an optically scannable form that is used to collect race and national origin data on all IRS employees and new hires. The form is a valuable tool in allowing the IRS to meet its diversity/EEO goals and as a component of its referral and tracking system and recruitment program.

Respondents: Individuals or households.

Estimated Total Burden Hours: 2,500 hours.

OMB Number: 1545-1934.

Type of Review: Extension.

Title: TD 9394 (REG-108524-00) (Final)—section 1446 Regulations; Form 8804-C—Certificate of Partner-Level Items to Reduce section 1446 Withholding.

Form: 8804-C.

Description: This regulation implements withholding regime on partnerships conducting business in the United States that have foreign partners. Such partners are required to pay withholding tax in installments on each foreign partner's allocable share of the partnership's U.S. Business taxable income. Special rules for publicly traded partnerships such that these partnerships pay withholding tax on distributions to foreign partners.

Respondents: Businesses or other for-profit institutions.

Estimated Total Burden Hours: 18,168 hours.

OMB Number: 1545-1644.

Type of Review: Extension.

Title: REG-126024-01 (final) Reporting of Gross Proceeds Payment to Attorneys; TD 9270.

Description: Information is required to implement section 1021 of the Taxpayer Relief Act of 1997. This information will be used by the IRS to verify compliance with section 6045 and to determine that the taxable amount of these payments has been computed correctly.

Respondents: Businesses or other for-profit institutions.

Estimated Total Burden Hours: 1 hour.

OMB Number: 1545-0096.

Type of Review: Revision.

Title: Form 1042, Annual Withholding Tax Return for U.S. Source Income of Foreign Persons; Form 1042-S, Foreign Person's U.S. Source Income Subject to Withholding, Form 1042-T, Annual Summary.

From: 1042.

Description: Form 1042 is used by withholding agents to report tax withheld at source on certain income paid to nonresident alien individuals, foreign partnerships, and foreign corporations to the IRS. Form 1042-S is used by withholding agents to report income and tax withheld to payees. A copy of each 1042-S is filed magnetically or with Form 1042 for information reporting purposes. The IRS uses this information to verify that the correct amount of tax has been withheld and paid to the United States. Form 1042-T is used by withholding agents to transmit Forms 1042-S to the IRS.

Respondents: Businesses or other for-profit institutions.

Estimated Total Burden Hours: 397,100 hours.

OMB Number: 1545-1798.

Type of Review: Revision.

Title: User Fee for Exempt Organization Determination Letter Request.

Form: 8718.

Description: The Omnibus Reconciliation Act of 1990 requires payment of a “user fee” with each application for a determination letter. Because of this requirement, the Form 8718 was created to provide filers the means to make payment and indicate the type of request.

Respondents: Businesses or other for-profit institutions.

Estimated Total Burden Hours: 16,667 hours.

OMB Number: 1545-0119.

Type of Review: Extension.

Title: Distributions From Pensions, Annuities, Retirement or Profit-Sharing Plans, IRAs, Insurance Contracts, etc.

Form: 1099-R.

Description: Form 1099-R is used to report distributions from pensions, annuities, profit-sharing or retirement plans, IRAs, and the surrender of insurance contracts. This information is used by IRS to verify that income has been properly reported by the recipient.

Respondents: Businesses or other for-profit institutions.

Estimated Total Burden Hours: 18,704,546 hours.

OMB Number: 1545-0748.

Type of Review: Extension.

Title: Employer Appointment of Agent.

Form: 2678.

Description: 26 U.S.C. 3504 authorizes an employer to designate a fiduciary, agent, etc., to perform the same acts as required of employers for purposes of employment taxes.

Respondents: Businesses and other for-profit institutions.

Estimated Total Burden Hours: 47,600 hours.

OMB Number: 1545-1484.

Type of Review: Extension.

Title: REG-242282-97 (formerly Intl-62-90, Intl-32-93, Intl-52-86, and Intl-52-94) (Final) General Revision of Regulations Relating to Withholding of Tax on Certain U.S. Source Income Paid to Foreign Corporations.

Description: The regulations are needed to provide guidance relating to the withholding of income of nonresident alien individuals and foreign corporations.

Respondents: Businesses and other for-profit institutions.

Estimated Total Burden Hours: 1 hour.

OMB Number: 1545-1591.

Type of Review: Extension.

Title: Reg-251701-96 Electing Small Business Trusts.

Description: This regulation provides the time and manner for making the Electing Small Business Trust election pursuant to section 1361 (e)(3).

Respondents: Businesses and other for-profit institutions.

Estimated Total Burden Hours: 7,500 hours.

OMB Number: 1545-1364.

Type of Review: Revision.

Title: EG-144615-02 (NPRM), Methods to Determine Taxable Income in Connection with a Cost Sharing Arrangement.

Description: The collection of information related to the IRS's assessment of whether a cost sharing arrangement is valid, and whether each participant's share of costs is proportionate to the participants share of benefits, and whether arm's length compensation has been paid to those participants providing external contributions such that an appropriate return is provided to those participants for putting their funds at risk to a greater extent than the other participants.

Respondents: Businesses or other for-profit institutions.

Estimated Total Burden Hours: 9,350 hours.

OMB Number: 1545-1005.

Type of Review: Extension.

Title: PS-62-87 (Final) Low-Income Housing Credit for Federally-Assisted Buildings.

Description: The rule requires the taxpayer (low-income building owner) to seek a waiver in writing from the IRS concerning low-income buildings acquired during a special 10-year period in order to avert a claim against a Federal mortgage insurance fund.

Respondents: Businesses or other for-profit institutions.

Estimated Total Burden Hours: 3,000 hours.

OMB Number: 1545-0819.

Type of Review: Extension.

Title: 26 CFR 601.201 Instructions for Requesting Rulings and Determination Letters.

Description: The National Office issues ruling letters and Area Directors issue determination letters to taxpayers interpreting and applying the tax laws to a specific set of facts. The National Office also issues other types of letters. The procedural regulations set forth the instructions for requesting ruling and determination letters.

Respondents: Businesses or other for-profit institutions.

Estimated Total Burden Hours: 248,496 hours.

OMB Number: 1545-1937.

Type of Review: Extension.

Title: Notice 2005-41, Guidance Regarding Qualified Intellectual Property Contributions.

Description: This notice explains new section 170(e)(1)(B)(iii) and 170(m) as added by section 882 of the American Jobs Creation Act of 2004. Under section 170(e)(1)(B)(iii), a donor's initial charitable contribution deduction for a gift of qualified intellectual property is limited to the lesser of the donor's adjusted basis is the property or its fair market value. Under section 170(m), the donor may claim additional deduction in subsequent years if the property produces income.

Respondents: Businesses and other for-profit institutions.

Estimated Total Burden Hours: 30 hours.

OMB Number: 1545-1936.

Type of Review: Extension.

Title: Revenue Procedure 2005-24, Waiver of Spousal Election.

Description: This revenue procedure provides guidance on the procedures for waiving a spousal election right with respect to charitable remainder annuity trusts under section 664(d)(1) and charitable remainder unitrusts under section 664(d)(2) that are established after the date that is 90 days after the date the Rev. Proc. is published in the IRB.

Respondents: Businesses or other for-profit institutions.

Estimated Total Burden Hours: 150,000 hours.

OMB Number: 1545-1490.

Type of Review: Extension.

Title: FI-28-96 (Final) Arbitrage Restrictions on Tax-Exempt Bonds.

Description: The recordkeeping requirements are necessary for the Service to determine that an issuer of tax-exempt bonds has not paid more than fair market value for nonpurpose investments under section 148 of the Internal Revenue Code.

Respondents: State, Local, or Tribal Governments.

Estimated Total Burden Hours: 1,425 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E8-22325 Filed 9-23-08; 8:45 am]

BILLING CODE 4830-01-P